DEPARTMENT OF COMMERCE

National Telecommunications and Information Administration

Community Broadband Workshop

AGENCY: National Telecommunications and Information Administration, U.S. Department of Commerce.

ACTION: Notice of open meeting.

SUMMARY: The National Telecommunications and Information Administration (NTIA), as part of its BroadbandUSA initiative will hold a one-day regional broadband Workshop, “California Broadband Workshop,” to help communities expand their broadband capacity and increase utilization of broadband. The Workshop will put forward best practices and lessons learned from network infrastructure build-outs and digital inclusion programs from California and surrounding states, including projects funded by NTIA's Broadband Technology Opportunities Program (BTOP) and State Broadband Initiative (SBI) grant programs. It also will include access to regional policymakers, federal funders and industry providers. The California Broadband Workshop will also explore the impact of municipal networks on local and regional economic development and discuss effective business and public-private partnership models, as well as lessons learned in the implementation of networks, adoption and use of broadband.

DATES: The California Broadband Workshop will be held on November 17, 2015, from 9:00 a.m. to 5:00 p.m., Pacific Time.

ADDRESSES: The meeting will be held in the Hahn Auditorium at the Computer History Museum, 1401 N. Shoreline Blvd., Mountain View, CA, 94043.

FOR FURTHER INFORMATION CONTACT: Barbara Brown, National Telecommunications and Information Administration, U.S. Department of Commerce, Room 4889, 1401 Constitution Avenue NW., Washington, DC 20230; telephone: (202) 482-4374; email: bbrown@ntia.doc.gov. Please direct media inquiries to NTIA's Office of Public Affairs, (202) 482-7002; email: press@ntia.doc.gov.

SUPPLEMENTARY INFORMATION: The California Broadband Workshop will include presentations from representatives of NTIA's BroadbandUSA initiative, who will discuss lessons learned through NTIA's implementation of the BTOP and SBI grants and explore key elements required for successful broadband projects using a mix of regional examples. Panel presentations will discuss real-world examples of how broadband and the high-speed applications it makes possible, such as those used in Smart Cities, help spur community economic development, workforce development and education. Topics will include state- and regional-level implementation, including marketing/demand aggregation, outreach, coordination with government agencies, partnership strategies, construction and oversight. One panel will examine municipal networks, economic development, and business model options, including private networks, public/private partnerships, co-ops and municipal systems. Panelists will also provide tips to communities on financing options and how to research grant opportunities, make a compelling case to funders and leverage multiple federal and state funding streams.

The Workshop will be open to the public and press on a first come, first served basis. Since space is limited, however, NTIA requests that interested individuals pre-register for the workshop. Information on how to pre-register for the meeting will be available on NTIA's Web site: http://www.ntia.doc.gov/other-publication/2015/CABroadbandSummit.

NTIA will ask registrants to provide their first and last names and email addresses for both registration purposes and to receive any updates on the Workshop. If capacity for the meeting is reached prior to the meeting, NTIA will maintain a waiting list and will inform those on the waiting list if space becomes available.

The public meeting is physically accessible to people with disabilities. Individuals requiring accommodations, such as language interpretation or other ancillary aids, are asked to notify the NTIA contact listed above at least seven (7) business days before the meeting.

Meeting updates and relevant documents will be also available on NTIA's Web site at http://www.ntia.doc.gov/other-publication/2015/CABroadbandSummit.

Dated: October 2, 2015.
Kathy D. Smith,
Chief Counsel, National Telecommunications and Information Administration.

[FR Doc. 2015-25505 Filed 10-6-15; 8:45 am]

BILLING CODE 3510-60-P